FEDERAL COMMUNICATIONS COMMISSION

Notice of Public Information Collection(s) Being Reviewed by the Federal Communications Commission, Comments Requested

February 2, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 12, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0027.

Title: Application for Construction Permit for Commercial Broadcast Station.

Form Number: FCC 301.

Type of Review: Extension of a currently approved collection.

Respondents: Business or other for-profit entities; not-for-profit institutions.

Number of Respondents: 3,370.

Estimated Time per Response: 2 to 4 hours.

Frequency of Response: On occasion reporting requirements; third party disclosure.

Total Annual Burden: 7,427 hours.

Total Annual Cost: $35,485,300.

Needs and Uses: On September 3, 2003, the United States Court of Appeals for the Third Circuit issued an Order staying the effectiveness of the new media ownership rules adopted by the Commission on June 2, 2003. (Report and Order, MB Docket 02-277 and MM Dockets 01-235, 01-317, and 00-244, and Notice of Proposed Rulemaking, In The Matter of 2002 Biennial Regulatory Review—Review of the Commission's Broadcast Ownership Rules and Other Rules Adopted Pursuant to Section 202 of the Telecommunications Act of 1996.) 68 FR 46285, August 5, 2003. The Court ordered “that the prior ownership rules remain in effect pending resolution of these proceedings.” Prometheus Radio Project v. FCC, No. 03-3388 (3d Cir. Sept. 3, 2003) (per curiam). The Court's Order requires that the Commission process broadcast station applications under the prior ownership rules.

FCC Form 301 is used to apply for authority to construct a new commercial AM, FM, or TV broadcast station, or to make changes in existing facilities of such a station. In addition, FM licensees or permittees may request, by application on FCC Form 301, upgrades on adjacent and co-channels, modifications to adjacent channels of the same class and downgrades to adjacent channels without first submitting a petition for rulemaking. All applicants using this one-step process must demonstrate that a suitable site exists which would comply with allotment standards with respect to minimum distance separation and city-grade coverage and which would be suitable for tower construction. To receive authorization for commencement of Digital Television (“DTV”) operation, commercial broadcast licensees must file FCC Form 301 for a construction permit. This application may be filed anytime after receiving the initial DTV allotment but must be filed before mid-point in a particular applicant's required construction period. The Commission will consider these applications as minor changes in facilities. Applications will not have to supply full legal or financial qualification information.

OMB Control Number: 3060-0031.

Title: Application for Consent to Assignment of Broadcast Station Construction Permit or License.

Form Number: FCC 314.

Type of Review: Extension of a currently approved collection.

Respondents: Business or other for-profit entities; Not-for-profit institutions.

Number of Respondents: 1,591.

Estimated Time per Response: 1 to 2 hours.

Frequency of Response: On occasion reporting requirement, third party disclosure requirement.

Total Annual Burden: 2,546 hours.

Total Annual cost: $12,237,878.

Needs and Uses: On September 3, 2003, the United States Court of Appeals for the Third Circuit issued an Order staying the effectiveness of the new media ownership rules adopted by the Commission on June 2, 2003. (Report and Order, MB Docket 02-277 and MM Dockets 01-235, 01-317, and 00-244, and Notice of Proposed Rulemaking, In The Matter of 2002 Biennial Regulatory Review—Review of the Commission's Broadcast Ownership Rules and Other Rules Adopted Pursuant to Section 202 of the Telecommunications Act of 1996.) 68 FR 46285, August 5, 2003. The Court ordered “that the prior ownership rules remain in effect pending resolution of these proceedings.” Prometheus Radio Project v. FCC, No. 03-3388 (3d Cir. Sept. 3, 2003) (per curiam). The Court's Order requires that the Commission process broadcast station applications under the prior ownership rules.

FCC Form 314 and applicable exhibits/explanations are required to be filed when applying for consent for assignment of an AM, FM or TV broadcast station construction permit or license. In addition, the applicant must notify the Commission when an approved assignment of a broadcast station construction permit or license has been consummated.

This collection also includes the third party disclosure requirement of 47 CFR 73.3580. This section requires local public notice in a newspaper of general circulation of the filing of all applications for assignment of license/permit. This notice must be completed within 30 days of the tendering of the application. This notice must be published at least twice a week for two consecutive weeks in a three-week period. A copy of this notice must be placed in the public inspection file along with the application. Additionally, an applicant for assignment of license must broadcast the same notice over the station at least once daily on four days in the second week immediately following the tendering for filing of the application.

On April 4, 2000, the Commission adopted a Report and Order in MM Docket No. 95-31 in the Matter of Reexamination of the Comparative Standards for Noncommercial Educational Applicants. This Report and Order adopted new procedures to select among competing applicants for noncommercial educational (NCE) broadcast channels. The new procedures will use points to compare objective characteristics whenever there are competing applications for full-service radio or television channels reserved for NCE use. The new procedure established a four-year holding period of on-air operations for licenses approved as a result of evaluation in a point system. The FCC 314 has been revised to reflect the new policy and to require stations authorized under the point system who have not operated for a four-year period to submit with their applications an exhibit demonstrating compliance with 47 CFR 73.7005. The data is used by the FCC staff to determine whether the applicants meet basic statutory requirements to become a Commission licensee/permittee and to assure that the public interest would be served by grant of the application.

OMB Control Number: 3060-0032.

Title: Application for Consent to Transfer Control of Entity Holding Broadcast Station Construction Permit or License.

Form Number: FCC 315.

Type of Review: Extension of a currently approved collection.

Respondents: Business or other for-profit entities; Not-for-profit institutions.

Number of Respondents: 1,591.

Estimated Time per Response: 1 to 2 hours.

Frequency of Response: On occasion reporting requirement, third party disclosure.

Total Annual Burden: 2,546 hours.

Total Annual Cost: $12,237,878.

Needs and Uses: On September 3, 2003, the United States Court of appeals for the Third Circuit issued an Order staying the effectiveness of the new media ownership rules adopted by the Commission on June 2, 2003. (Report and Order, MB Docket 02-277 and MM Dockets 01-235, 01-317, and 00-244, and Notice of Proposed Rulemaking, In The Matter of 2002 Biennial Regulatory Review—Review of the Commission's Broadcast Ownership Rules and Other Rules Adopted Pursuant to Section 202 of the Telecommunications Act of 1996.) 68 FR 46285, August 5, 2003. The Court ordered “that the prior ownership rules remain in effect pending resolution of these proceedings.” Prometheus Radio Project v. FCC, No. 03-3388 (3d Cir. Sept. 3, 2003) (per curiam). The Court's Order requires that the Commission process broadcast station applications under the prior ownership rules.

FCC Form 315 and applicable exhibits/explanations are required to be filed when applying for transfer of control of a corporation holding an AM, FM or TV broadcast station construction permit or license. In addition, the applicant must notify the Commission when an approved transfer of control of a broadcast station construction permit or license has been consummated.

This collection also includes the third party disclosure requirement of 47 CFR 73.3580. This section requires local public notice in a newspaper of general circulation of the filing of all applications for transfer of control of license/permit. This notice must be completed within 30 days of the tendering of the application. This notice must be published at least twice a week for two consecutive weeks in a three-week period. A copy of this notice must be placed in the public inspection file along with the application. Additionally, an applicant for transfer of control of license must broadcast the same notice over the station at least once daily on four days in the second week immediately following the tendering for filing of the application.

On April 4, 2000, the Commission adopted a Report and Order in MM Docket No. 95-31, In the Matter of Reexamination of the Comparative Standards for Noncommercial Educational Applicants. This Report and Order adopted new procedures to select among competing applicants for noncommercial educational (NCE) broadcast channels. The new procedures will use points to compare objective characteristics whenever there are competing applications for full-service radio or television channels reserved for NCE use. The new procedure established a four-year holding period of on-air operations for licenses approved as a result of evaluation in a point system. The FCC 315 has been revised to reflect the new policy and to require stations authorized under the point system who have not operated for a four-year period to submit with their applications an exhibit demonstrating compliance with 47 CFR 73.7005. The data are used by the FCC staff to determine whether the applicants meet basic statutory requirements to become a Commission licensee/permittee and to assure that the public interest would be served by grant of the application.

OMB Control Number: 3060-0405.

Title: Application for Authority to Construct or Make Changes in an FM Translator or FM Booster Station.

Form Number: FCC 349.

Type of Review: Extension of currently approved collection.

Respondents: Businesses or other for-profit entities; not-for-profit institutions.

Number of respondents: 1,050.

Estimated Hours per Response: 1-3 hours.

Frequency of Response: On occasion reporting requirements.

Total Annual Burden: 2,750 hours.

Total Annual Cost: $2,689,500.

Needs and Uses: FCC Form 349 is used to apply for authority to construct a new FM translator or FM booster broadcast station, or to make changes in the existing facilities of such stations. To satisfy the third party requirements under 47 CFR 73.3580, applicants must give notice of their applications for new or major changes in facilities in a local newspaper within 30 days, and copy of both the notice and the application must be placed in the public inspection. In addition, all mutually exclusive NCE proposals for the reserved band currently on file with the FCC are required to supplement their applications with portions of the revised FCC Form 349 necessary to make a selection under the new point system. The FCC will issue a public notice announcing the procedures to be used in this process. The data help the FCC to determine whether an applicant meets basic statutory requirements and will not cause interference to other licensed broadcast services. Where there are mutually exclusive, qualified applicants, the information is used to determine which proposal best serves the public interest.

Federal Communications Commission.
Marlene H. Dortch,
Secretary.

[FR Doc. 04-3054 Filed 2-11-04; 8:45 am]

BILLING CODE 6712-10-M